DEPARTMENT OF HEALTH AND HUMAN SERVICES

Centers for Disease Control and Prevention

[60Day-12MX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, at 1600 Clifton Road, MS D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Research to Inform the Prevention of Asthma in Healthcare—New—National Institute for Occupational Safety and Health (NIOSH), Centers for Disease Control and Prevention (CDC).

Background and Brief Description

Healthcare is the largest industry in the United States and performs a vital function in society. Evidence from both surveillance and epidemiologic research indicates that healthcare workers have an elevated risk for work-related asthma (WRA) associated with exposure to groups of agents such as cleaning products, latex, indoor air pollution, volatile organic compounds (VOCs) and bioaerosols. Recent epidemiologic studies of WRA among healthcare workers have utilized job exposure matrices (JEMs) based on probability of exposure, however, specific exposures/etiologic agents are not well characterized and quantitative exposure measurements are lacking. In this project, NIOSH will augment the existing JEM with quantitative exposure data, which will significantly enhance the existing JEMs and develop a survey questionnaire for asthma in healthcare.

Since asthma continues to be a problem among healthcare workers, the overall goal of this project is to prevent work-related asthma among healthcare workers. The primary objective is to identify modifiable occupational risk factors for asthma in healthcare that will inform strategies for prevention. Specific Aims that support the Primary Objective are:

Aim 1. Measure frequency of asthma onset, related symptoms, and exacerbation of asthma in selected healthcare occupations.

Aim 2. Assess associations between asthma outcomes and exposures to identify modifiable risk factors.

In order to accomplish the goal and aims of this project, NIOSH has developed a survey designed to collect information about work history, workplace exposures and asthma health from workers in the healthcare industry. Aim 1 of this project will be completed using data exclusively from this survey. While aim 2 will be completed using asthma outcome data from the survey and exposure data from the JEM developed from survey data and exposure data from previously environmental sampling at healthcare facilities.

Approximately 17,500 health care workers in the New York City area will be recruited for this study. NIOSH is partnering with the Service Employees International Union (SEIU) Local 1199 in New York City. The SEIU1199 Communications Center (CC) will be responsible for collecting survey data from union members by telephone interview. The goal is to conduct a cross-sectional epidemiologic survey of approximately 5,000 healthcare workers who are members of SEIU1199. Only health care workers whose job titles are in one of nine job titles will be recruited. These nine job titles include: certified nursing assistants (CNAs), central supply, environmental services, licensed practical nurses (LPNs), lab techs, operating room (OR) techs, registered nurses (RNs), respiratory therapists, and dental assistants. Furthermore, recruitment of health care workers will only be from hospitals and nursing homes.

Completion of the survey by SEIU1199 members will be done either online or over the telephone. After the initial recruitment period, SEIU1199 members will have approximately two weeks to complete the online survey. After this two week period, the SEIU1199 Communication Center will begin calling members who have not completed the online survey and attempt to complete the survey with them by telephone interview. NIOSH anticipates 20% of the responses to be made using the online survey and the remaining 80% to be by telephone interview.

Summary results of this study will be made available to SEIU1199 members who completed the survey through a letter mailed to their homes. Although NIOSH has partnered with SEIU119, results of this study will also be disseminated to other industry stakeholders including healthcare workers, researchers, clinicians, and professional societies and government agencies. The desired outcome of the dissemination efforts include healthcare workers learning about hazards in their work environment and becoming more prepared to participate in the development of strategies to minimize risk. Also, clinicians will learn how occupational exposures can impact the respiratory health of their patients who work in healthcare, which should improve the care they provide. In addition, manuscripts of results and conclusions will be drafted and published in peer reviewed journals.

The target sample size for this study is 5,000. Based on the SEIU1199 membership data, the percentage of eligible union members that fall into the targeted nine job categories is known. Therefore, a participant job-category distribution estimate can be made.

Completion of either the online or telephone survey will take approximately 30 minutes. It is estimated that the annualized burden will be 2,500 hours. There is no cost to respondents other than their time.

Type of respondents | Form name | No. of respondents | No. of responses per respondent | Avg. burden per response (in hrs) | Total burden (in hrs)
Certified Nursing Assistants | Online | 297 | 1 | 30/60 | 149
| Telephone | 1,188 | 1 | 30/60 | 594
Central Supply Workers | Online | 8 | 1 | 30/60 | 4
| Telephone | 34 | 1 | 30/60 | 17
Dental Assistants | Online | 18 | 1 | 30/60 | 9
| Telephone | 71 | 1 | 30/60 | 36
Environmental Service Workers | Online | 228 | 1 | 30/60 | 114
| Telephone | 914 | 1 | 30/60 | 457
Licensed Practical Nurses | Online | 140 | 1 | 30/60 | 70
| Telephone | 559 | 1 | 30/60 | 280
Lab Technicians | Online | 77 | 1 | 30/60 | 39
| Telephone | 310 | 1 | 30/60 | 155
Operating Room Technicians | Online | 27 | 1 | 30/60 | 14
| Telephone | 109 | 1 | 30/60 | 55
Registered Nurses | Online | 168 | 1 | 30/60 | 84
| Telephone | 672 | 1 | 30/60 | 336
Respiratory Therapists | Online | 36 | 1 | 30/60 | 18
| Telephone | 144 | 1 | 30/60 | 72
Total |  |  |  |  | 2,500

Kimberly S. Lane,
Deputy Director, Office of Science Integrity, Office of the Associate Director for Science, Office of the Director, Centers for Disease Control and Prevention.

[FR Doc. 2012-14390 Filed 6-12-12; 8:45 am]

BILLING CODE 4163-18-P